DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on April 15, 2025. See SUPPLEMENTARY INFORMATION section for relevant dates.

FOR FURTHER INFORMATION CONTACT: OFAC: Associate Director for Global Targeting, 202-622-2420; Assistant Director for Sanctions Compliance, 202-622-2490; or https://ofac.treasury.gov/contact-ofac.

SUPPLEMENTARY INFORMATION:

Electronic Availability

The SDN List and additional information concerning OFAC sanctions programs are available on OFAC's website: https://ofac.treasury.gov.

Notice of OFAC Action

On April 15, 2025, OFAC determined that one or more persons identified below meet one or more of the criteria for the imposition of sanctions set forth in section 1(a)-(c) of Executive Order 14059 of December 15, 2021, “Imposing Sanctions on Foreign Persons Involved in the Global Illicit Drug Trade,” 86 FR 71549 (E.O. 14059). OFAC has selected to impose blocking sanctions pursuant to section 2(a)(i) of E.O. 14059 on the persons identified below.

OFAC further determined that the persons identified below meet one or more of the criteria for designation pursuant to Executive Order 13224 of September 23, 2001, “Blocking Property and Prohibiting Transactions With Persons Who Commit, Threaten to Commit, or Support Terrorism,” 66 FR 49079, as amended by Executive Order 13886 of September 9, 2019, “Modernizing Sanctions To Combat Terrorism,” 84 FR 48041 (E.O. 13224, as amended).

As a result, the property and interests in property subject to U.S. jurisdiction of the following persons are blocked under the relevant sanctions authorities listed below.

Individuals

1. HURTADO OLASCOAGA, Adita (a.k.a. “La Venadita”), Mexico; DOB 06 Sep 1975; POB Guerrero, Mexico; nationality Mexico; Gender Female; Secondary sanctions risk: section 1(b) of Executive Order 13224, as amended by Executive Order 13886; C.U.R.P. HUOA750906MGRRLD02 (Mexico) (individual) [SDGT] [ILLICIT-DRUGS-EO14059] (Linked To: LA NUEVA FAMILIA MICHOACANA).

Designated pursuant to section 1(b)(iii) of E.O. 14059 for being owned, controlled, or directed by, or having acted or purported to act for or on behalf of, directly or indirectly, La Nueva Familia Michoacana, a person whose property and interests in property are blocked pursuant to E.O. 14059.

Designated pursuant to section 1(a)(iii)(A) of E.O. 13224, as amended, for being owned, controlled, or directed by, or having acted or purported to act for or on behalf of, directly or indirectly, La Nueva Familia Michoacana, a person whose property and interests in property are blocked pursuant to E.O. 13224, as amended.

2. HURTADO OLASCOAGA, Ubaldo (a.k.a. “Flaco”; a.k.a. “H1”), Mexico; DOB 09 May 1979; POB Guerrero, Mexico; nationality Mexico; Gender Male; Secondary sanctions risk: section 1(b) of Executive Order 13224, as amended by Executive Order 13886; C.U.R.P. HUOU790509HGRRLB08 (Mexico) (individual) [SDGT] [ILLICIT-DRUGS-EO14059] (Linked To: LA NUEVA FAMILIA MICHOACANA).

Designated pursuant to section 1(b)(iii) of E.O. 14059 for being owned, controlled, or directed by, or having acted or purported to act for or on behalf of, directly or indirectly, La Nueva Familia Michoacana, a person whose property and interests in property are blocked pursuant to E.O. 14059.

Designated pursuant to section 1(a)(iii)(A) of E.O. 13224, as amended, for being owned, controlled, or directed by, or having acted or purported to act for or on behalf of, directly or indirectly, La Nueva Familia Michoacana, a person whose property and interests in property are blocked pursuant to E.O. 13224, as amended.

3. HURTADO OLASCOAGA, Johnny (a.k.a. “EL MOJARRO”; a.k.a. “EL MUHADO”; a.k.a. “EL PESCADO”; a.k.a. “EL PEZ”), Mexico; DOB 01 Mar 1973; POB Guerrero, Mexico; nationality Mexico; Gender Male; Secondary sanctions risk: section 1(b) of Executive Order 13224, as amended by Executive Order 13886; C.U.R.P. HUOJ730301HGRRLH02 (Mexico) (individual) [SDGT] [ILLICIT-DRUGS-EO14059] (Linked To: LA NUEVA FAMILIA MICHOACANA).

Designated pursuant to section 1(a)(iii)(A) of E.O. 13224, as amended, for being owned, controlled, or directed by, or having acted or purported to act for or on behalf of, directly or indirectly, La Nueva Familia Michoacana, a person whose property and interests in property are blocked pursuant to E.O. 13224, as amended.

4. HURTADO OLASCOAGA, Jose Alfredo (a.k.a. “EL FRESA”), Mexico; DOB 02 Sep 1984; POB Guerrero, Mexico; nationality Mexico; Gender Male; Secondary sanctions risk: section 1(b) of Executive Order 13224, as amended by Executive Order 13886; C.U.R.P. HUOA840902HGRRLL03 (Mexico) (individual) [SDGT] [ILLICIT-DRUGS-EO14059] (Linked To: LA NUEVA FAMILIA MICHOACANA).

Designated pursuant to section 1(a)(iii)(A) of E.O. 13224, as amended, for being owned, controlled, or directed by, or having acted or purported to act for or on behalf of, directly or indirectly, La Nueva Familia Michoacana, a person whose property and interests in property are blocked pursuant to E.O. 13224, as amended.

Lisa M. Palluconi,
Acting Director, Office of Foreign Assets Control.

[FR Doc. 2025-06770 Filed 4-18-25; 8:45 am]

BILLING CODE 4810-AL-P